DEPARTMENT OF COMMERCE

National Oceanic and Atmospheric Administration

50 CFR Part 648

[Docket No. 241210-0319; RTID 0648-XE309]

Fisheries of the Northeastern United States; Atlantic Deep-Sea Red Crab Fishery; 2025 Atlantic Deep-Sea Red Crab Specifications

AGENCY: National Marine Fisheries Service (NMFS), National Oceanic and Atmospheric Administration (NOAA), Commerce.

ACTION: Final rule.

SUMMARY: NMFS is finalizing specifications for the 2025 Atlantic deep-sea red crab fishery, including an annual catch limit and total allowable landings limit. This action is necessary to fully implement previously projected allowable red crab harvest levels that will prevent overfishing and allow harvesting of optimum yield. This action is intended to establish the allowable 2025 harvest levels, consistent with the Atlantic Deep-Sea Red Crab Fishery Management Plan (FMP).

DATES: The final specifications for the 2025 Atlantic deep-sea red crab fishery are effective from March 1, 2025, through February 28, 2026.

FOR FURTHER INFORMATION CONTACT: Caroline Potter, Fishery Resource Management Specialist, (978) 281-9325.

SUPPLEMENTARY INFORMATION: The Atlantic deep-sea red crab fishery is managed by the New England Fishery Management Council (Council). The Atlantic Deep-Sea Red Crab FMP includes a specification process that requires the Council to recommend an acceptable biological catch (ABC), an annual catch limit (ACL), and total allowable landings (TAL) every 4 years. Collectively, these are the red crab specifications. Prior to the start of fishing year 2024, the Council recommended specifications for the 2024-2027 fishing years (table 1).

Table 1—Council-Approved 2024-2027 Red Crab Specifications
| Metric tons | Millions of pounds (lb)
Acceptable Biological Catch | 2,000 | 4.41
Annual Catch Limit | 2,000 | 4.41
Total Allowable Landings | 2,000 | 4.41

On February 8, 2024, NMFS published a final rule implementing the Council-recommended specifications for the 2024 fishing year, effective through February 28, 2025, and projecting the fishery's specifications for 2025 through 2027 (89 FR 8557). At the end of each fishing year, we evaluate catch information and determine if the quota has been exceeded. If a quota is exceeded, the regulations at 50 CFR 648.262(b) require a pound-for-pound reduction in a subsequent fishing year. We have reviewed available 2023 and 2024 fishery information against the projected 2025 specifications. There have been no quota overages, nor is there any new biological information that would require altering the projected 2025 specifications published in 2024. Based on this information, we are finalizing specifications for fishing year 2025, as projected in the 2024 specifications rule, and outlined above in table 1. These specifications are not expected to result in overfishing and adequately account for scientific uncertainty. NMFS will provide notice of the final 2026-2027 specifications, and any necessary reductions, prior to the start of each respective fishing year.

Classification

NMFS is issuing this rule pursuant to 305(d) of the Magnuson-Stevens Act (MSA), which authorizes the Secretary to implement management measures necessary to carry out an approved fishery management plan. Red crab specifications are implemented pursuant to the regulations at 50 CFR 648.260 that were approved and implemented by NMFS in Amendment 3 to the FMP (76 FR 60379; September 29, 2011). The NMFS Assistant Administrator has determined that this final rule is consistent with the Atlantic Deep-Sea Red Crab FMP, the 2024-2027 Atlantic Deep-Sea Red Crab specifications, and other applicable law.

This final rule is exempt from review under Executive Order (E.O.) 12866.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

Pursuant to 5 U.S.C. 553(b)(B), we find good cause to waive prior public notice and opportunity for public comment on the catch limit and allocation adjustments, because allowing time for notice and comment would be contrary to the public interest. The proposed rule for the 2024-2027 specifications, pursuant to the process described in the red crab regulations (§ 648.260), provided the public with the opportunity to comment on the specifications, including the projected 2025 through 2027 specifications (88 FR 83893, December 1, 2023). We received no comments on the proposed rule announcing the projected 2025-2027 specifications and this final rule contains no changes from the projected 2025 specifications that were included in both the December 1, 2023, proposed rule and the February 8, 2024, final rule (89 FR 8557). Through both the proposed rule for the 2024-2027 specifications and the final rule for the 2024 specifications, we alerted the public that we would conduct a review of the latest available catch information in each of the interim years of the multi-year specifications and announce the final quota prior to the March 1 start of the fishing year. Thus, the proposed and final rules that contained the projected 2025-2027 specifications provided a full opportunity for the public to comment on the substance and process of this action.

The Chief Counsel for Regulation, Department of Commerce, previously certified to the Chief Counsel for Advocacy of the Small Business Administration (SBA) that the 2024-2027 red crab specifications would not have a significant economic impact on a substantial number of small entities. Implementing the 2025 specifications will not change the conclusions drawn in that previous certification to the SBA. No comments were received regarding this prior certification. As a result, no new regulatory flexibility analysis is required and none has been prepared.

This action does not contain a collection of information requirement for purposes of the Paperwork Reduction Act (44 U.S.C. 3501 et seq.).

Authority: 16 U.S.C. 1801 et seq.

Dated: December 10, 2024.
Samuel D. Rauch, III,
Deputy Assistant Administrator for Regulatory Programs, National Marine Fisheries Service.

[FR Doc. 2024-29451 Filed 12-12-24; 8:45 am]

BILLING CODE 3510-22-P